FEDERAL COMMUNICATIONS COMMISSION

47 CFR Part 73

[DA 03-3650; MB Docket No. 02-243; RM-10533; RM-10712*]

Radio Broadcasting Services; Marathon and Mertzon, TX

AGENCY: Federal Communications Commission.

ACTION: Final rule.

SUMMARY: In response to a Notice of Proposed Rule Making, 67 FR 57779 (September 12, 2001), this Report and Order allots Channel 278C to Marathon, Texas, and provides Marathon with its first local aural transmission service. This document also allots Channel 278C2 to Mertzon, Texas and provides that community with its second local aural transmission service. The coordinates for Channel 278C at Marathon, Texas, are 30-21-56 North Latitude and 103-17-40 West Longitude. This allotment has a site restriction of 18.4 kilometers (11.5 miles) north of Marathon, Texas. The coordinates for Channel 278C2 at Mertzon, Texas, are 31-10-09 North Latitude and 100-51-41 West Longitude, with a site restriction of 10.8 kilometers (6.7 miles) southwest of Mertzon, Texas.

DATES: Effective January 8, 2004.

FOR FURTHER INFORMATION CONTACT: R. Barthen Gorman, Media Bureau, (202) 418-2180.

SUPPLEMENTARY INFORMATION: This is a synopsis of the Commission's Report and Order, MB Docket No. 02-243, adopted November 14, 2003, and released November 17, 2003. The full text of this Commission decision is available for inspection and copying during normal business hours in the FCC's Reference Information Center at Portals II, 445 12th Street, SW., Room CY-A257, Washington, DC 20554. The document may also be purchased from the Commission's duplicating contractor, Qualex International, Portals II, 445 12th Street, SW., Room CY-B402, Washington, DC 20554, telephone 202 863-2893, facsimile 202 863-2898, or via e-mail qualexint@aol.com.

List of Subjects in 47 CFR Part 73

Radio, Radio broadcasting.

Part 73 of title 47 of the Code of Federal Regulations is amended as follows:

PART 73—RADIO BROADCAST SERVICES

1. The authority citation for part 73 reads as follows:

Authority: 47 U.S.C. 154, 303, 334 and 336.

§ 73.202 [Amended]

2. Section 73.202(b), the Table of FM Allotments under Texas, is amended by adding Marathon, Channel 278C, and Channel 278C2 at Mertzon.

Federal Communications Commission.
John A. Karousos,
Assistant Chief, Audio Division, Media Bureau.

[FR Doc. 03-30194 Filed 12-4-03; 8:45 am]

BILLING CODE 6712-01-P